DEPARTMENT OF HOMELAND SECURITY

Coast Guard

[Docket No. USCG-2010-0316]

National Boating Safety Advisory Committee; Vacancies

AGENCY: Coast Guard, DHS.

ACTION: Request for applications.

SUMMARY: The Coast Guard seeks applications for membership on the National Boating Safety Advisory Council (NBSAC). This Council advises the Secretary of the Department of Homeland Security through the Coast Guard on recreational boating safety regulations and other major boating safety matters.

DATES: Applicants should submit a cover letter and resume in time to reach the Alternate Designated Federal Officer (ADFO) on or before August 15, 2011.

ADDRESSES: Applicants should send their cover letter and resume to the following address: Commandant (CG-5422)/NBSAC, Attn: Mr. Jeff Ludwig, U.S. Coast Guard, 2100 Second St., SW., Stop 7581, Washington, DC 20593-7581. You can also call 202-372-1061; or e-mail jeffrey.a.ludwig@uscg.mil.

This notice is available in our online docket, USCG-2010-0316, at http://www.regulations.gov.

FOR FURTHER INFORMATION CONTACT: Jeff Ludwig, ADFO of National Boating Safety Advisory Committee; telephone 202-372-1061; fax 202-372-1908; or e-mail at jeffrey.a.ludwig @uscg.mil.

SUPPLEMENTARY INFORMATION: The National Boating Safety Advisory Council (NBSAC) is a Federal advisory committee under 5 U.S.C. App. (Pub. L. 92-463). It was established under authority of 46 U.S.C. 13110 and advises the Secretary of the Department of Homeland Security through the Coast Guard on boating safety regulations and other major boating safety matters. NBSAC has 21 members: Seven representatives of State officials responsible for State boating safety programs, seven representatives of recreational vessel manufacturers and associated equipment manufacturers, and seven representatives of national recreational boating organizations and the general public, at least five of whom are representatives of national recreational boating organizations. Members are appointed by the Secretary.

The Council meets at least twice each year at a location selected by the Coast Guard. It may also meet for extraordinary purposes with the approval of the Designated Federal Officer. Subcommittees or working groups may also meet to consider specific problems.

We will consider applications for seven positions that expire or become vacant on December 31, 2011:

• Three representatives of State officials responsible for State boating safety programs;

• Two representatives of recreational boat and associated equipment manufacturers; and

• Two representatives of national recreational boating organizations.

Applicants are considered for membership on the basis of their particular expertise, knowledge, and experience in recreational boating safety. To be eligible, you should have experience in one of the categories listed above. Registered lobbyists are not eligible to serve on Federal advisory committees. Registered lobbyists are lobbyists required to comply with provisions contained in the Lobbying Disclosure Act of 1995 (Pub. L. 110-81, as amended).

Each member serves for a term of three years. Members may be considered to serve consecutive terms. All members serve at their own expense and receive no salary, or other compensation from the Federal Government. The exception to this policy is when attending NBSAC meetings, members are reimbursed for travel expenses and provided per diem in accordance with Federal Travel Regulations.

In support of the policy of the Coast Guard on gender and ethnic nondiscrimination, we encourage qualified men and women and members of all racial and ethnic groups to apply. The Coast Guard values diversity; all the different characteristics and attributes of persons that enhance the mission of the Coast Guard.

If you are selected as a member drawn from the general public, you will be appointed and serve as a special Government employee (SGE) as defined in section 202(a) of title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official or his or her designate may release a Confidential Financial Disclosure Report.

If you are interested in applying to become a member of the Committee, send your cover letter and resume to Jeff Ludwig, Alternate Designated Federal Officer (ADFO) of NBSAC at Commandant (CG-5422)/NBSAC, U.S. Coast Guard, 2100 Second St., SW., Stop 7581, Washington, DC 20593-7581. Send your cover letter and resume in time for it to be received by the ADFO on or before August 15, 2011. To visit our online docket, go to http://www.regulations.gov, enter the docket number for this notice (USCG-2010-0316) in the Search box, and click “Go.” Please do not post your resume on this site.

Applicants for the 2010 and 2011 vacancies announced in the Federal Register on May 12, 2009, (74 FR 22174) and May 10, 2010, (75 FR 25872) will be considered for the 2011 vacancies and do not need to submit another cover letter or resume. Applicants for years prior to 2010 should submit an updated resume with cover letter to ensure consideration for the vacancies announced in this notice.

Dated: June 1, 2011.
K.S. Cook,
Rear Admiral, U.S. Coast Guard, Director of Prevention Policy.

[FR Doc. 2011-14621 Filed 6-13-11; 8:45 am]

BILLING CODE 9110-04-P